DEPARTMENT OF TRANSPORTATION

Federal Aviation Administration

14 CFR Part 39

[Docket No. FAA-2005-22427; Directorate Identifier 2004-NM-263-AD]

RIN 2120-AA64

Airworthiness Directives; British Aerospace Model BAC 1-11 200 and 400 Series Airplanes

AGENCY: Federal Aviation Administration (FAA), Department of Transportation (DOT).

ACTION: Notice of proposed rulemaking (NPRM).

SUMMARY: The FAA proposes to adopt a new airworthiness directive (AD) for all British Aerospace Model BAC 1-11 200 and 400 series airplanes. This proposed AD would require revising the airplane flight manual (AFM) to contain applicable AFM amendments, which advise the flightcrew of information pertaining to safely operating the fuel system. The proposed AD would also require revising the FAA-approved maintenance program to include certain repetitive maintenance tasks intended to improve the safety of the fuel system. This proposed AD results from fuel system reviews conducted by the manufacturer. We are proposing this AD to prevent potential ignition sources inside the fuel system, which, in combination with flammable fuel vapors, could result in a fuel tank explosion and consequent loss of the airplane.

DATES: We must receive comments on this proposed AD by October 17, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact British Aerospace, Service Support, Airbus Limited, P.O. Box 77, Bristol BS99 7AR, England, for service information identified in this proposed AD.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

We invite you to submit any relevant written data, views, or arguments regarding this proposed AD. Include the docket number “Docket No. FAA-2005-22427; Directorate Identifier 2004-NM-263-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The FAA has examined the underlying safety issues involved in recent fuel tank explosions on several large transport airplanes, including the adequacy of existing regulations, the service history of airplanes subject to those regulations, and existing maintenance practices for fuel tank systems. As a result of those findings, we issued a regulation titled “Transport Airplane Fuel Tank System Design Review, Flammability Reduction and Maintenance and Inspection Requirements” (67 FR 23085, May 7, 2001). In addition to new airworthiness standards for transport airplanes and new maintenance requirements, this rule included Special Federal Aviation Regulation No. 88 (“SFAR 88,” Amendment 21-78, and subsequent Amendments 21-82 and 21-83).

Among other actions, SFAR 88 requires certain type design (i.e., type certificate (TC) and supplemental type certificate (STC)) holders to substantiate that their fuel tank systems can prevent ignition sources in the fuel tanks. This requirement applies to type design holders for large turbine-powered transport airplanes and for subsequent modifications to those airplanes. It requires them to perform design reviews and to develop design changes and maintenance procedures if their designs do not meet the new fuel tank safety standards. As explained in the preamble to the rule, we intended to adopt airworthiness directives to mandate any changes found necessary to address unsafe conditions identified as a result of these reviews.

In evaluating these design reviews, we have established four criteria intended to define the unsafe conditions associated with fuel tank systems that require corrective actions. The percentage of operating time during which fuel tanks are exposed to flammable conditions is one of these criteria. The other three criteria address the failure types under evaluation: single failures, single failures in combination with another latent condition(s), and in-service failure experience. For all four criteria, the evaluations included consideration of previous actions taken that may mitigate the need for further action.

The Joint Aviation Authorities (JAA) has issued a regulation that is similar to SFAR 88. (The JAA is an associated body of the European Civil Aviation Conference (ECAC) representing the civil aviation regulatory authorities of a number of European States who have agreed to co-operate in developing and implementing common safety regulatory standards and procedures.) Under this regulation, the JAA stated that all members of the ECAC that hold type certificates for transport category airplanes are required to conduct a design review against explosion risks.

We have determined that the actions identified in this proposed AD are necessary to reduce the potential of ignition sources inside fuel tanks, which, in combination with flammable fuel vapors, could result in fuel tank explosions and consequent loss of the airplane.

The Civil Aviation Authority (CAA), which is the airworthiness authority for the United Kingdom, notified us that an unsafe condition may exist on all British Aerospace Model BAC 1-11 200 and 400 series airplanes. The CAA advises that specific changes to operating procedures are necessary to ensure that the flightcrew is aware of appropriate procedures for addressing tripped circuit breakers or dry fuel tanks. Failure to follow appropriate procedures could introduce a possible ignition source into the fuel system. The CAA also advises that changes to the maintenance program are needed to prevent the possibility of ignition sources inside the fuel system. An ignition source inside the fuel system, in combination with flammable fuel vapors, could result in a fuel tank explosion and consequent loss of the airplane.

Relevant Service Information

The manufacturer has issued Airbus UK BAC One-Eleven Alert Service Bulletin 28-A-PM6057, Issue 1, dated May 10, 2004. The service bulletin describes procedures for revising the airplane flight manual (AFM) to contain applicable AFM amendments, which advise the flightcrew of information pertaining to the safety of the fuel system. Among other items, the AFM amendments advise the flightcrew of the following:

• Normal procedures for checking the proper operation of fuel system elements.

• Limitations on resetting tripped circuit breakers for electrical circuits for the fuel system, or restarting a fuel boost pump or transfer pump after a failure indication.

• Procedures for removing power from affected components in the event of an indication of an electrical fault in the fuel system.

• Procedures for operating the fuel pumps in a low-fuel or dry condition.

The service bulletin also contains procedures for revising the FAA-approved maintenance program to include certain maintenance tasks intended to improve the safety of the fuel system. Among other items, the maintenance tasks include:

• Visually inspecting the outlets of the fuel drain system for fuel leakage, and locating and correcting any leak.

• Performing a functional test of the temperature indicating system of the cold air unit, or performing an integrity test of the ducting of the air conditioning bay.

• Inspecting the drain pipes, drip trays, drip shields, and connectors of the fuel drain system for damage or corrosion, and for minimum clearance between drain pipes and adjacent structure.

• Inspecting the fuel system drains for correct positioning and freedom from obstruction.

• Pressure testing the wiring conduits for the booster pump in the wing tanks and for the transfer pump in the center tank.

• Inspecting the cables, components, and ducting of the wing leading edge for secure mounting and connection, and for discrepancies including chafing, damage, corrosion, evidence of leakage, and obstruction, as applicable.

• For certain airplanes, inspecting the anti-ice ducts of the wing leading edge for damage between ribs 4 and 5.

• Inspecting the ducting in the air conditioning bay for secure duct connections.

Table 1 of the service bulletin refers to specific chapters of the airplane maintenance manual (AMM) for applicable procedures for performing most of these inspections and tests. However, the service bulletin refers to British Aerospace Alert Service Bulletin 30-A-PM5149, dated May 30, 1973; as the applicable source of service information for inspecting the anti-ice ducts of the wing leading edge for damage between ribs 4 and 5. British Aerospace Alert Service Bulletin 30-A-PM5149 describes a visual or radiographic inspection for damage of the anti-ice ducts, and corrective actions, consisting of repairing or replacing the duct, if necessary.

Table 1 specifies normal repetitive intervals ranging from 100 hours to 4800 hours, depending on the task. For airplanes subject to a “corporate schedule,” Table 1 specifies repetitive intervals ranging from every month to every 4 years, depending on the task.

Accomplishing the actions specified in the service information is intended to adequately address the unsafe condition. The CAA mandated the service information and issued British airworthiness directive G-2004-0012, dated June 21, 2004, to ensure the continued airworthiness of these airplanes in the United Kingdom.

FAA's Determination and Requirements of the Proposed AD

These airplane models are manufactured in the United Kingdom and are type certificated for operation in the United States under the provisions of section 21.29 of the Federal Aviation Regulations (14 CFR 21.29) and the applicable bilateral airworthiness agreement. Pursuant to this bilateral airworthiness agreement, the CAA has kept the FAA informed of the situation described above. We have examined the CAA's findings, evaluated all pertinent information, and determined that we need to issue an AD for airplanes of this type design that are certificated for operation in the United States.

Therefore, we are proposing this AD, which would require accomplishing the actions specified in the service information described previously, except as discussed under “Clarification of Proposed AD and Maintenance Manual Temporary Revisions.”

Differences Between the Proposed AD and British Airworthiness Directive

British airworthiness directive G-2004-0012 mandates changes to the master minimum equipment list (MMEL). This (FAA) AD will not mandate those MMEL changes because the limits imposed by the FAA-approved MMEL meet or exceed those mandated by the British airworthiness directive. We have coordinated this issue with the CAA.

Clarification of Proposed AD and Maintenance Manual Temporary Revisions (TRs)

In addition to the AFM amendments described previously, Table 2 of British Aerospace Alert Service Bulletin 28-A-PM6057 also lists numerous TRs to the airplane maintenance manual. We have determined that these TRs were included in the service bulletin to provide operators with a summary of all measures taken to address current practices for fuel system safety. These TRs were not intended to address any identified unsafe condition. Therefore, this proposed AD would not require any action relative to these TRs. We have coordinated this issue with the CAA and our decision not to mandate the TRs to the maintenance manual is consistent with the CAA's action in British airworthiness directive G-2004-0012.

Clarification of Terminology

Where Table 1 of British Aerospace Alert Service Bulletin 28-A-PM6057 specifies a repetitive interval in “hours,” for the purposes of this AD, this means “flight hours.”

Costs of Compliance

The following table provides the estimated costs for U.S. operators to comply with this proposed AD.

Estimated Costs
Action | Work hours | Average labor rate per hour | Cost per airplane | Number of U.S.-registered airplanes | Fleet cost
AFM Revision | 1 | $65 | $65 | 11 | $715
Maintenance Program Revision | 1 | 65 | 65 | 11 | 715

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the National Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

British Aerospace Airbus Limited: Docket No. FAA-2005-22427; Directorate Identifier 2004-NM-263-AD.

Comments Due Date

(a) The FAA must receive comments on this AD action by October 17, 2005.

Affected ADs

(b) None.

Applicability

(c) This AD applies to all British Aerospace Model BAC 1-11 200 and 400 series airplanes, certificated in any category.

Unsafe Condition

(d) This AD results from fuel system reviews conducted by the manufacturer. We are issuing this AD to ensure that the flightcrew and maintenance personnel are advised of procedures pertaining to the safety of the fuel system. These procedures are needed to prevent potential ignition sources inside the fuel system, which, in combination with flammable fuel vapors, could result in a fuel tank explosion and consequent loss of the airplane.

Compliance

(e) You are responsible for having the actions required by this AD performed within the compliance times specified, unless the actions have already been done.

Airplane Flight Manual and Maintenance Program Revisions

(f) Within 3 months after the effective date of this AD, do the actions specified in paragraphs (f)(1) and (f)(2) of this AD to improve the safety of the fuel system, in accordance with the Accomplishment Instructions of Airbus UK BAC One-Eleven Alert Service Bulletin 28-A-PM6057, Issue 1, dated May 10, 2004.

(1) Revise the airplane flight manual to include the applicable amendments advising the flightcrew of appropriate procedures to check for proper operation of the fuel system, and to address tripped circuit breakers, failure of a fuel pump in flight, and operations in a low-fuel situation, as specified in Table 2 (under Section 4.11) of the service bulletin.

Note 1: The actions required by paragraph (f)(1) of this AD may be done by inserting a copy of the applicable advance amendment bulletins (AABs) specified in Table 2 of Airbus UK BAC One-Eleven Alert Service Bulletin 28-A-PM6057, Issue 1, dated May 10, 2004, into the AFM. When information identical to that in the applicable AABs has been included in the general revisions of the AFM, the AABs no longer need to be inserted into the AFM.

(2) Revise the FAA-approved maintenance program to include all repetitive maintenance tasks specified in Table 1 (under Section 4.10.2.) of the service bulletin. Then, thereafter, comply with the requirements of these maintenance tasks at the interval specified in Table 1 of the service bulletin; except for airplanes that operate fewer than a total of 1,250 flight hours per year, accomplish the requirements of these maintenance tasks at the earlier of the times specified in columns 2 and 3 of Table 1 of the service bulletin. Where Table 1 of the service bulletin specifies a repetitive interval in “hours,” for the purposes of this AD, this means “flight hours.” Any applicable corrective actions must be done before further flight.

Note 2: After revising the maintenance program to include the required periodic maintenance tasks according to paragraph (f)(2) of this AD, operators do not need to make a maintenance log entry to show compliance with this AD every time those maintenance tasks are accomplished thereafter.

Alternative Methods of Compliance (AMOCs)

(g) The Manager, International Branch, ANM-116, Transport Airplane Directorate, FAA, has the authority to approve AMOCs for this AD, if requested in accordance with the procedures found in 14 CFR 39.19.

Related Information

(h) British airworthiness directive G-2004-0012, dated June 21, 2004, also addresses the subject of this AD.

Issued in Renton, Washington, on September 7, 2005.
Kalene C. Yanamura,
Acting Manager, Transport Airplane Directorate, Aircraft Certification Service.

[FR Doc. 05-18402 Filed 9-15-05; 8:45 am]

BILLING CODE 4910-13-P